COMMITTEE FOR PURCHASE FROM PEOPLE WHO ARE BLIND OR SEVERELY DISABLED

Procurement List; Additions and Deletion

AGENCY: Committee for Purchase From People Who Are Blind or Severely Disabled.

ACTION: Additions to and deletion from the Procurement List.

SUMMARY: This action adds products and services to the Procurement List that will be furnished by nonprofit agencies employing persons who are blind or have other severe disabilities, and delete a product from the Procurement List previously furnished by such agency.

DATES: Effective Date: April 17, 2016.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION:

Additions

On 2/12/2016 (81 FR 7510-7511) and 2/19/2016 (81 FR 8486), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 §§ U.S.C. 8501-8506) in connection with the products and services proposed for addition to the Procurement List.

End of Certification

Accordingly, the following products and services are added to the Procurement List:

Products

NSN(s)—Product Name(s):

MR 874—Potato Masher

MR 867—Cup, Measuring, Angled

Mandatory Source of Supply: Cincinnati Association for the Blind, Cincinnati, OH

Mandatory Purchase for: The requirements of military commissaries and exchanges in accordance with the Code of Federal Regulations, Chapter 51, 51-6.4

Contracting Activity: Defense Commissary Agency

Distribution: C-List

NSN—Product Name: 4330-01-398-8484—Filter Element, Fluid

Mandatory Source of Supply: Crossroads Rehabilitation Center, Inc., Indianapolis, IN

Mandatory Purchase For: 100% of the requirement of the Department of Defense

Contracting Activity: Defense Logistics Agency Land and Maritime

Distribution: C-List

Services

Service Type: Grounds Maintenance Service

Mandatory for: FAA, Atlanta Air Route Surveillance Radar, 1890 Roswell Street SE., Smyrna, GA

Service Type: Grounds Maintenance and Janitorial Service

Mandatory for: FAA, Fulton County Air Traffic Control Tower, 3979 Aviation Circle NW., Atlanta, GA

Mandatory Source of Supply: New Ventures Enterprises, Inc., LaGrange, GA

Contracting Activity: Dept of Trans/Federal Aviation Administration, College Park, GA

Deletion

On 2/12//2016 (81 FR 7510-7511), the Committee for Purchase From People Who Are Blind or Severely Disabled published notice of proposed deletion from the Procurement List.

After consideration of the relevant matter presented, the Committee has determined that the product listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product to the Government.

3. There are no known regulatory alternatives which would accomplish the objectives of the Javits-Wagner-O'Day Act (41 U.S.C. 8501-8506) in connection with the product deleted from the Procurement List.

End of Certification

Accordingly, the following product is deleted from the Procurement List:

Product

NSN—Product Name: 7520-00-224-7238—Desk Blotter Pad, 19¼″ x 24¼″, Buff

Mandatory Source of Supply: Life'sWork of Western PA

Contracting Activity: General Services Administration

Patricia Briscoe,
Deputy Director, Business Operations, (Pricing and Information Management).

[FR Doc. 2016-06180 Filed 3-17-16; 8:45 am]

BILLING CODE 6353-01-P